FEDERAL COMMUNICATIONS COMMISSION

Open Commission Meeting, Thursday, February 22, 2018

The Federal Communications Commission held an Open Meeting on the subjects listed below on Thursday, February 22, 2018, at 10:30 a.m. in Room TW-C305, 445 12th Street SW, Washington, DC.

Item No. | Bureau | Subject
1 | OFFICE OF ENGINEERING & TECHNOLOGY | Title: Spectrum Horizons (ET Docket No. 18-21); James Edwin Whedbee Petition for Rulemaking to Allow Unlicensed Operation in the 95-1,000 GHz Band (RM-11795).
|  | Summary: The Commission considered a Notice of Proposed Rulemaking that seeks comment on proposed rules that would apply to spectrum above 95 GHz for licensed services, unlicensed operations, and a new class of experimental licenses.
2 | OFFICE OF ENGINEERING & TECHNOLOGY | Title: Encouraging the Provision of New Technologies and Services to the Public (GN Docket No. 18-22).
|  | Summary: The Commission considered a Notice of Proposed Rulemaking to provide guidelines and procedures to implement section 7 of the Communications Act, as amended, to improve Commission processes to promote the provision of new technologies and services to the public.
3 | WIRELESS TELECOMMUNICATIONS AND WIRELINE COMPETITION | Title: Connect America Fund (WC Docket No. 10-90); Universal Service Reform—Mobility Fund (WT Docket No. 10-208).
|  | Summary: The Commission considered an Order addressing the remaining issues raised by parties in petitions for reconsideration of the Mobility Fund Phase II Report and Order and Further Notice of Proposed Rulemaking.
4 | MEDIA | Title: Elimination of Obligation to File Broadcast Mid-Term Report (Form 397) Under Section 73.2080(f)(2) (MB Docket No. 18-23); Modernization of Media Regulation Initiative (MB Docket No. 17-105).
|  | Summary: The Commission considered a Notice of Proposed Rulemaking that proposes to eliminate the requirement in Section 73.2080(f)(2) of the Commission's rules that certain broadcast television and radio stations file the Broadcast Mid-Term Report (Form 397).
5 | MEDIA | Title: Amendment of Parts 74, 76 and 78 of the Commission's Rules Regarding Maintenance of Copies of FCC Rules (MB Docket No. 17-231); Modernization of Media Regulation Initiative (MB Docket No. 17-105).
|  | Summary: The Commission considered a Report and Order that would eliminate specific Part 74, 76, and 78 rules that require certain broadcast and cable entities to maintain paper copies of Commission rules, while retaining provisions that require the subject entities to be familiar with the rules governing their operations.
6 | WIRELINE COMPETITION | Title: Modernization of Payphone Compensation Rules (WC Docket No. 17-141); Implementation of the Pay Telephone Reclassification and Compensation Provisions of The Telecommunications Act of 1996 (CC Docket No. 96-128); 2016 Biennial Review of Telecommunications Regulations (WC Docket No. 16-132).
|  | Summary: The Commission considered a Report and Order to (1) eliminate all payphone call tracking system audit and associated reporting requirements, (2) permit a company official, including but not limited to the chief financial officer, to certify that a completing carrier's quarterly compensation payments are accurate and complete, and (3) eliminate expired payphone compensation rules.
7 | WIRELINE COMPETITION | Presentation: Demonstration of the New National Broadband Map.
|  | Summary: The Commission heard a presentation on a new National Broadband Map providing improved access to fixed-broadband deployment.

* * * * *

Federal Communications Commission.
Marlene H. Dortch,
Secretary.

[FR Doc. 2018-04446 Filed 3-2-18; 8:45 am]

BILLING CODE 6712-01-P